COMMITTEE FOR PURCHASE FROM PEOPLE WHO ARE BLIND OR SEVERELY DISABLED

Agency Information Collection Activities; Proposed Information Collection; Comment Request

ACTION: Submission for OMB review; comment request.

AGENCY: Committee for Purchase From People Who Are Blind or Severely Disabled.

SUMMARY: The Committee is submitting to the Office of Management and Budget for their review the following collection as required by the Paperwork Reduction Act (44 U.S.C. Chapter 35).

Committee Form 403—Annual Certification—Qualified Nonprofit Agency Serving People Who Are Blind.

Committee Form 404—Annual Certification—Qualified Nonprofit Agency Serving People Who Are Severely Disabled.

DATES: Interested persons are invited to submit comments about the collection on or before May 13, 2009. The agency's 60-day notice informing the public of the intent to renew this form with no changes was published in the Federal Register on February 3, 2009 on page 5913-5914. A subsequent correction notice was published on February 13, 2009 on page 7216.

ADDRESSES: Comments may be submitted, identified by the title of the information collection activity, to the Office of Information and Regulatory Affairs, Attn: Ms. Jasmeet K. Seehra, OMB Desk Officer, by any of the following two methods within 30 days from the date of publication in the Federal Register: (1) By fax to: (202) 395-6974, Attention: Ms. Jasmeet K. Seehra, OMB Desk Office; and (2) Electronically by e-mail to: Jasmeet_K._Seehra@omb.eop.gov.

Requests for copies of documents pertaining to the collection should be addressed to Committee for Purchase From People Who Are Blind or Severely Disabled, Attention: Edward Yang, Information Technology Specialist, Jefferson Plaza 2, Suite 10800, 1421 Jefferson Davis Highway, Arlington, VA 22202-3259 or e-mailed to eyang@abilityone.gov.

SUPPLEMENTARY INFORMATION: The Committee has two annual certification forms, one for nonprofit agencies serving people who are blind (Committee Form 403, OMB Control Number 3037-0001) and one for nonprofit agencies primarily serving people who have other severe disabilities (Committee Form 404, OMB Control Number 3037-0002). The information included on the forms is required to ensure that nonprofit agencies that participate in the Committee's program meet the requirements of the Javits-Wagner-O'Day Act (JWOD), 41 U.S.C. 46-48c. One comment was received in response to the agency's 60-day notice informing the public of the intent to renew this form with no changes, which was published in the Federal Register on February 3, 2009 on page 5913-5914. A subsequent correction notice was published on February 13, 2009 on page 7216.

Title: Annual Certification—Qualified Nonprofit Agency Serving People Who Are Blind, Committee Form 403.

OMB Number: 3037-0001.

Agency Number: 3037.

Frequency: Annually.

Affected Public: Nonprofit agencies serving people who are blind that participate in the AbilityOne Program.

Number of Respondents: 70.

Estimated Time per Respondent: 6 hours.

Total Burden Hours: 420.

Total Annual Costs: $12,600.

Title: Annual Certification—Qualified Nonprofit Agency Serving People Who Are Severely Disabled, Committee Form 404.

OMB Number: 3037-0002.

Agency Number: 3037.

Frequency: Annually.

Affected Public: Nonprofit agencies serving people with severe disabilities that participate in the AbilityOne Program.

Number of Respondents: 555.

Estimated Time per Respondent: 6 hours.

Total Burden Hours: 3,330.

Total Annual costs: $99,900.

On February 3, 2009, the Committee published a notice in the Federal Register (Volume 74, Number 21, pages 5913-5914). A subsequent correction notice was published in the Federal Register on February 13, 2009 (Volume 74, Number 29, page 7216). These notices requested public comment on the renewal of annual certification requirements for nonprofit agencies participating in the AbilityOne Program. The comment period lasted 60 days, ending April 8, 2009. By that date, the Committee received comments from one respondent containing four comments.

The respondent concurred that the Committee has the authority to enforce conditions for participation in the program pursuant to the JWOD Act. However, the respondent inferred that there is sub-regulatory guidance issued by the Committee that should instead be issued through regulation. This information collection request is limited to annual reports from participating nonprofit agencies in the AbilityOne Program which are not affected by any sub-regulatory guidance.

The respondent's next comment questioned the burden estimate by indicating there was no justification, rationale or dollar burden estimate provided. Much of the respondent's comment does not deal with the reporting of data for the annual certification under this specific collection notice, but for the recordkeeping requirement tracked under a separate OMB Paperwork Reduction Act tracking number. Specific justification for the annual certification, including burden and cost estimate, was included in the supporting documentation provided to OMB with the renewal request. The burden estimate used was based on questions asked during actual compliance visits to participating nonprofit agencies and included the time for entering data into the web-based quarterly system and reviewing the draft annual certification by the central nonprofit agencies. As a result of the Committee's review of the process, the previous estimate that had been used since at least 1992 was doubled. The Committee has used a cost estimate of $30 per hour, therefore the estimated cost to each participating nonprofit would be $180 or a total burden of $112,500.

The respondent's next two comments included recommendations for improving the quality, utility and clarity of reporting by participating nonprofit agencies and ways to minimize the burden. While not specifically related to this information collection renewal request, the Committee appreciates all recommendations for improvement in our information collection and overall AbilityOne Program efforts.

Kimberly Zeich,
Deputy Executive Director & COO.

[FR Doc. E9-8792 Filed 4-16-09; 8:45 am]

BILLING CODE 6353-01-P